NATIONAL SCIENCE FOUNDATION

National Science Board; Workshop on Hurricane Science and Engineering; Toward A National Agenda for Hurricane Science and Engineering: Perspectives From Federal Agencies

Date and Time: January 24, 2005, 8 a.m.-5:15 p.m. (ET).

Place: National Science Foundation, 4201 Wilson Boulevard, Room 1235, Arlington, VA 22230.

Public Meeting Attendance: All visitors must report to the NSF's visitor's desk at the 9th and N. Stuart Streets entrance to receive a visitor's badge.

Contact Information: Please refer to the National Science Board Web site (http://www.nsf.gov/nsb) for updated Agenda. NSB Office: (703) 292-7000.

Status: This Workshop will be open to the public.

Provisional Workshop Agenda

8-8:05 a.m. Welcoming Remarks.

8:05-8:20 a.m Motivation, Purpose and Goals.

8:20-8:30 a.m. Process and Logistics for NSB Workshops.

8:30-9:30 a.m. Panel Session I: Physical, Biological and Ecological Sciences.

9:30-10 a.m. Roundtable Discussion.

10-10:15 a.m. Break.

10:15-11:15 a.m. Panel Session II: Social, Behavioral, and Economic Sciences.

11:15-11:45 a.m. Roundtable Discussion.

1-2 p.m. Panel Session III: Engineering and Infrastructure.

2-2:30 p.m. Roundtable Discussion.

2:30-4 p.m. Break-Out Groups (3 concurrent sessions).

4-5 p.m. Break-Out Group Reports and Discussion.

5-5:15 p.m. Summary and Next Steps.

5:15 p.m. Adjourn.

Michael P. Crosby,
Executive Officer and NSB Office Director.

[FR Doc. E6-711 Filed 1-20-06; 8:45 am]

BILLING CODE 7555-01-P